DEPARTMENT OF COMMERCE

International Trade Administration

[A-570-863]

Honey from the People's Republic of China: Notice of Extension of Time Limit for Preliminary Results of Antidumping Duty Administrative Review

AGENCY: Import Administration, International Trade Administration, Department of Commerce.

EFFECTIVE DATE: July 21, 2005.

FOR FURTHER INFORMATION CONTACT: Anya Naschak or Kristina Boughton, AD/CVD Operations, Office 9, Import Administration, International Trade Administration, U.S. Department of Commerce, 14th Street and Constitution Avenue, NW, Washington, DC 20230; telephone; (202) 482-6375 and (202) 482-8173, respectively.

SUPPLEMENTARY INFORMATION:

Background

On December 10, 2001, the Department of Commerce (the Department) published in the Federal Register an antidumping duty order covering honey from the PRC. See Notice of Amended Final Determination of Sales at Less Than Fair Value and Antidumping Duty Order; Honey from the People's Republic of China, 66 FR 63670 (December 10, 2001). On December 1, 2004, the Department published a Notice of Opportunity to Request an Administrative Review of Antidumping or Countervailing Duty Order, Finding, or Suspended Investigation, 69 FR 69889. On December 30, 2004, the American Honey Producers Association and the Sioux Honey Association (collectively, petitioners), requested, in accordance with section 351.213(b) of the Department's regulations, an administrative review of the antidumping duty order on honey from the PRC for 19 companies¹ covering the period December 1, 2003, through November 30, 2004. On December 30, 2004, and January 3, 2005, nine Chinese companies requested an administrative review of their respective companies. The Department notes that petitioners' request covered these nine companies as well.

¹ Among these 19 companies are “Inner Mongolia Autonomous Region Native Produce and Animal By-Products Import & Export Corp.,” and “Inner Mongolia Autonomous Region Native Produce and Animal By-Products.” These two names refer to the same company and the review is, therefore, being rescinded with respect to both iterations of the name.

On January 31, 2005, the Department initiated an administrative review of 19 Chinese companies. See Initiation of Antidumping and Countervailing Duty Administrative Reviews and Request for Revocation in Part, 70 FR 4818 (January 31, 2005). On March 29, 2005, the Department rescinded this review with respect to seven companies because petitioners, the only party to have requested a review for these companies, withdrew their request. See Notice of Partial Rescission of Antidumping Duty Administrative Review: Honey from the People's Republic of China, 70 FR 15836 (March 29, 2005).

On April 28, 2005, petitioners withdrew their request for review of Anhui Native Produce Import and Export Corp. (Anhui Native) and on April 29, 2005, petitioners withdrew their request for review of Inner Mongolia Autonomous Region Native Produce and Animal By-Products Import and Export Corporation (Inner Mongolia). On May 25, 2005, the Department rescinded this review with respect to Anhui Native and Inner Mongolia, because petitioners, the only party to request a review of these two companies, withdrew their request. See Honey from the People's Republic of China: Notice of Partial Rescission of Antidumping Duty Administrative Review, 70 FR 30082 (May 25, 2005).

On June 20, 2005, petitioners requested that the Department extend the date for the issuance of the preliminary results in this proceeding from 245 days to 365 days, due to the large number of companies in the proceeding, complex issues of affiliation for several companies under review, and the difficulty in finding up-to-date factor valuation data, particularly for raw honey.

Extension of Time Limits for Preliminary Results

Pursuant to Section 751(a)(3)(A) of the Tariff Act of 1930, as amended (the Act), and section 351.213(h)(1) of the Department's regulations, the Department shall issue the preliminary results of an administrative review within 245 days after the last day of the anniversary month of the date of publication of the order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

The preliminary results of this administrative review are currently due no later than September 2, 2005. The Department finds that it is not practicable to complete the preliminary results of this administrative review within this time limit because it needs additional time to analyze the questionnaire responses, issue appropriate supplemental questionnaires and conduct verifications, and research surrogate value data, particularly for raw honey. Therefore, in accordance with section 751(a)(3)(A) of the Act and section 351.213(h)(2) of the Department's regulations, the Department is extending the time limit for the completion of these preliminary results until no later than December 9, 2005, or 98 days. The deadline for the final results of the administrative review continues to be 120 days after the date the publication of the preliminary results, unless extended.

This notice is issued and published in accordance with section 751(a)(3)(A) of the Act.

Dated: July 14, 2005.
Susan H. Kuhbach,
Acting Deputy Assistant Secretary for Import Administration.

[FR Doc. E5-3910 Filed 7-20-05; 8:45 am]

BILLING CODE 3510-DS-S